DEPARTMENT OF TRANSPORTATION

Federal Railroad Administration

Petition for Waiver of Compliance

In accordance with Title 49 Code of Federal Regulations (CFR), §§ 211.9 and 211.41 notice is hereby given that the Federal Railroad Administration (FRA) has received a request for waiver of compliance from certain requirements of Federal railroad safety regulations. The individual petition is described below, including the parties seeking relief, the regulatory provisions involved, the nature of the relief being requested and the petitioner's arguments in favor of relief.

Alaska Railroad Corporation

[Docket Number FRA-2003-15756]

The Alaska Railroad Corporation (ARRC) seeks a waiver of compliance from certain sections of 49 CFR parts 216, Special Notice and Emergency Order Procedures: Railroad Track, Locomotive and Equipment; 217, Railroad Operating Rules; 218, Railroad Operating Practices; 229, Railroad Locomotive Safety Standards; 233, Signal Systems Reporting Requirements; 235, Instructions Governing Applications for Approval of a Discontinuance or Material Modification of a Signal System or Relief from the Requirements of Part 236; 236, Rules, Standards, and Instructions Governing the Installation, Inspection, Maintenance, and Repair of Signal and Train Control Systems, Devices, and Appliances; and 240, Qualification and Certification Of Locomotive Engineers, under § 211.51, Tests, to allow them to acquire, test, and implement technology designed to prevent train collisions, overspeed violations, and protect roadway workers. The program will enable ARRC to demonstrate and validate an integrated system provided by three vendors, Quantum Engineering, Inc. provider of the on-board equipment, Meteor Communications Corporation, provider of the communications backbone and wayside devices, and Engesis, provider of the computer-aided dispatching (CAD) system. This technology is referred to as a Collision Avoidance System (CAS).

Petitioner's Justification

The petitioner provided the following justification for relief:

CAS is a communications-based train control system designed to enhance safety by precisely managing the movements of locomotives, trains, and on-track equipment in real time. The CAS safety enhancements are achieved through a communications-based system that enforces movement authority and speed restrictions for CAS equipped trains.

The CAS integrates four segments to provide the enforcement: the location segment, the locomotive segment, the dispatcher system segment, and the communications segment. The location segment utilizes Global Position System (GPS) satellites to precisely determine the location of equipped locomotives and/or end of train devices using Differential GPS based location system. The dispatcher segment provides full support for train dispatching over the ARRC. The system is field proven, runs in logical modules, and is interfaced with satellite and radio technology. Communication among dispatchers and train crews is over a field proven communications segment, and is mainly by means of messages that are processed and converted into visual information. The dispatcher confirms or modifies the meet/pass locations and the system automatically incrementally generates and delivers the electronic enforcable authority and temporary speed limits for each train under CAS control. This information is delivered through the communications segment to the locomotive. Procedures are implemented to ensure the data received is complete and correct. Several modules within the locomotive segment manage authority limit enforcement, speed enforcement, switch monitoring, signal compliance and signal comparitor functionality, track integrity, and wayside detector monitoring and enforcement. Failsafe design dictates that an undelivered message will stop the train at the end of its active authority. The approaching locomotive interrogates wayside devices, including signals, and designated switches to ensure proper alignment and aspect for the route. The locomotive segment confirms the locomotive's location, via the location segment, and enforces movement and speed limits by monitoring the train's location and speed and applying the brakes to stop the train if necessary to prevent a violation. The crew is presented a graphical and textual view of the authorities, speed restrictions, and current location, and is alerted in advance to any upcoming restriction. Human reaction to the prompts issued by the system will prevent intervention by CAS. All on-board and dispatcher office information and human actions are recorded.

The CAS will be tested and demonstrated system wide on the ARRC in the State of Alaska on the subdivisions/branches shown in Table 1.

Table 1
Subdivision/Branch | Length (miles)
Seward: Anchorage to Seward | 114.3
Whittier: Portage to Whittier | 12.4
Anchorage: Anchorage to Fairbanks | 356.0
Anchorage Intl Airport Branch: Anchorage to End of Track | 2.45
Palmer Branch: Matanuska to Palmer | 6.2
Suntrana Branch: Healy to End of Track | 1.7
Fairbanks Intl Airport Branch: Fairbanks to End of Track | 10.0
Eielson Branch: Fairbanks to Eielson | 28.0
Total | 531.05

The present methods of operation on the CAS territories are shown in Table 2.

Table 2
Subdivision/Branch | CTC | CTC 2 main tracks | Non-ABS | Rest/yard limits
Seward: Anchorage to Seward | 4.8 | 0 | 106.1 | 3.4
Whittier: Portage to Whittier | 2.7 | 0 | 5.6 | 4.1
Anchorage: Anchorage to Fairbanks | 8.45 | 2.8 | 341.95 | 2.8
Anchorage Intl Airport Branch | 0 | 0 | 0 | 2.45
Palmer Branch: Matanuska to Palmer | 0 | 0 | 0 | 6.2
Suntrana Branch: Healy to End of Track | 0 | 0 | 0 | 1.7
Fairbanks Intl Airport Branch | 0 | 0 | 0 | 10.0
Eielson Branch: Fairbanks to Eielson | 0 | 0 | 0 | 28.0
Total (531.05 miles) | 15.95 | 2.8 | 453.65 | 58.65

The CAS production system will enforce the General Code of Operating Rules (GCOR) rules governing the movement of trains. Operating Rules changes required to support the CAS will be identified and documented during testing and evaluation.

The waiver is requested for a testing period commencing September, 2003, and extending to the conclusion of the test phase. The testing period will terminate December, 2005 unless AARC notifies FRA of an earlier termination date.

The following are the specific waiver requests and their justifications. References are to Chapter II, Subtitle B, Title 49 of the Code of Federal Regulations.

Section 216.13

Special notice for repairs—locomotive. During development, demonstration, and test, waiver is requested for CAS locomotives to the extent that non-operation of CAS equipment installed on-board, whether through malfunction or deactivation, shall not be construed as an unsafe condition requiring special notice for repairs. Waiver is also sought for non-CAS-equipped locomotives operating in the CAS test territory to the extent that the absence of CAS equipment on-board shall not be construed as an unsafe condition requiring special notice for repairs.

Justification: With or without CAS equipment operating on-board the controlling locomotive, a train remains subject to applicable railroad operating rules. CAS tests require flexibility in installing, removing, turning on, and turning off the on-board equipment. The initial CAS tests will equip only a small subset of locomotives operating in the pilot territory or test bed.

Section 217.9

Program of operational tests and inspections; recordkeeping. Waiver is requested exempting operation of CAS equipment and procedures from the requirements for operational tests, inspections, and associated recordkeeping during the test phase.

Justification: During the CAS test program procedures for using CAS equipment and functions will be refined and modified. Until such procedures are defined, they cannot be addressed in the GCOR.

Section 217.11

Program of instruction on operating rules; recordkeeping; and electronic recordkeeping. Waiver is requested exempting operation of CAS equipment and procedures from the requirements for instruction and associated record keeping during the test phase.

Justification: During the CAS test phase procedures for using CAS equipment and functions will be refined and modified. Until such procedures are defined, they cannot be addressed in the GCOR.

Part 218

(Subpart D) Prohibition Against Tampering With Safety Devices. Waiver is requested exempting on-board CAS equipment from the requirements of §§ 218.51, 218.53, 218.55, 218.57, 218.59, and 218.61 to the extent that CAS equipment on-board a locomotive shall not be considered a “safety device” subject to the provisions of this subpart at any time during the test phase.

Justification: CAS tests require flexibility in installing, removing, turning on, and turning off the on-board equipment. ARRC requires the flexibility to permanently disable or remove CAS equipment in the event that a production system is not implemented.

Section 229.7

Prohibited acts. Waiver is requested to the extent that CAS equipment on-board a locomotive shall not be considered “appurtenances” rendering the locomotive subject to the provisions of this section.

Justification: CAS tests require flexibility in installing, removing, turning on, and turning off the on-board equipment. ARRC requires the flexibility to temporarily or permanently disable on-board equipment. Whether or not the on-board CAS equipment is functioning, the train remains subject to the provisions of the rules governing the current methods of operation. CAS will be subject to the provisions of 49 CFR part 236, subparts A through G, and proposed Subpart H if promulgated, and therefore, should not be subject to part 229 in any fashion.

Section 229.135

Event recorders. Waiver is requested to the extent that CAS equipment on-board a locomotive shall not be considered an “event recorder” subject to the provisions of this section.

Justification: CAS equipment by design will operate intermittently during the pilot program. CAS tests require flexibility in installing, removing, turning on, and turning off the on-board equipment. ARRC requires the flexibility to temporarily or permanently disable on-board CAS equipment.

Section 233.9

Annual Reports. Waiver is requested exempting CAS operations in the test phase from the reporting requirements of this section.

Justification: ARRC recognizes that a CAS production system is subject to the provisions of this section, however, imposition of the requirements during the test phase would impose an unnecessary paperwork burden.

Section 235.5

Changes requiring filing of application. Waiver is requested exempting the CAS from the filing requirements of this section during the test phase.

Justification: CAS tests require flexibility in installing, removing, turning on, and turning off the CAS equipment. ARRC requires the flexibility to permanently disable or remove CAS equipment in the event the production system is not implemented.

Section 236.4

Interference with normal functioning of device. Waiver is requested to the extent that CAS equipment be excluded from this requirement during the test phase.

Justification: During the CAS test phase, the “normal functioning” will be identified, defined and redefined. CAS tests require flexibility in installing, removing, turning on, and turning off the CAS equipment. With or without CAS equipment on-board the controlling locomotive, the train remains subject to the provisions of the rules governing the existing methods of operation.

Section 236.5

Design of control circuits on closed circuit principle. Waiver is requested excepting CAS equipment from the closed circuit design requirement.

Justification: CAS is composed of solid-state components that are software driven. Neither the hardware nor software can technically be designed to meet the provisions of this section. However, all safety-critical circuits external to the CAS equipment will be designed to meet this requirement.

Section 236.11

Adjustment, repair, or replacement of component. Waiver is requested exempting CAS components on-board a locomotive from the requirements of this section during the test phase.

Justification: CAS tests require flexibility in installing, removing, modifying, turning on and turning off equipment. Failure of a CAS component during the test phase will not jeopardize the safety of train operations. With or without CAS equipment operating on-board the controlling locomotive, the train remains subject to the provisions of the rules governing the existing method of operation.

Section 236.15

Timetable instructions. Waiver is requested exempting the CAS territory from the timetable designation requirement of this section during the CAS test phase.

Justification: The CAS test phase will consist of tests and demonstrations at undetermined intervals and identifying the test territory in the timetable as “CAS” (or some similar label) would be both premature and an unnecessary paperwork burden.

Section 236.76

Tagging of wires and interference of wires or tags with signal apparatus. Waiver is requested exempting CAS equipment from the wire-tagging requirement.

Justification: CAS hardware consists of computers, computer peripherals, and communication devices. While the inapplicability of this section to circuit boards, connectors, and cables would appear obvious, waiver is sought for clarification.

Section 236.101

Purpose of inspection and tests; removal from service of relay or device failing to meet test requirements. Waiver is requested exempting CAS equipment from the requirement for removal of failed equipment from service during the test phase.

Justification: CAS requires flexibility in installing, removing, turning on, and turning off the CAS equipment. With or without CAS equipment operating on-board, a train remains subject to the provisions of the rules governing the existing methods of operation.

Section 236.109

Time releases, timing relays and timing devices. Waiver is requested exempting CAS equipment from the testing requirement of this section during the test phase.

Justification: The timing devices in CAS equipment are software-driven, have no moving parts, and are far more reliable than the devices for which this regulation was promulgated to address.

Section 236.110

Results of tests. Waiver is requested exempting CAS tests from the record keeping requirements of this section.

Justification: During the CAS test phase, the types of tests needed to ensure appropriate levels of maintenance will be defined.

Section 236.501

Forestalling device and speed control. Waiver is requested exempting CAS from the requirement for medium-speed restriction.

Justification: CAS receives input from the track database, bulletins, and signal system with regard to speed. In the event of a failure of the engineer to obey any restrictive speed CAS will enforce a stop.

Section 236.511

Cab signals controlled in accordance with block conditions stopping distance in advance. Waiver is requested exempting the CAS on-board display from the cab-signal requirements of this section.

Justification: CAS is not an automatic cab signal system and will have no connection to a signal system. CAS will receive data radio input from the signal system and display the signal name that forms the basis for limits of authority that will be depicted on the display.

Section 236.515

Visibility of cab signals. Waiver is requested exempting the CAS display from the visibility requirement of this section during the test phase.

Justification: The visibility requirements of this rule will be met in the CAS production system.

Section 236.534

Entrance to equipped territory; requirements. Waiver is requested exempting CAS from the requirements of this section during the test phase.

Justification: CAS tests require flexibility in installing, removing, turning on, and turning off CAS equipment.

Section 236.552

Insulation resistance; requirement. Waiver is requested exempting CAS equipment from the insulation resistance requirement of this section.

Justification: CAS equipment consists of computers, computer peripherals, and communications equipment. Insulation resistance tests could be damaging to such components.

Section 236.553

Seal, where required. Waiver is requested exempting CAS from the seal requirement of this section.

Justification: The CAS will allow for manual disablement of on-board CAS functions and equipment through an on-board manual function. Use of the on-board cutout function will be electronically monitored and reported to the dispatcher as an alarm. The CAS tests require flexibility in installing, removing, turning on, and turning off CAS equipment.

Section 236.566

Locomotive of each train operating in train stop, train control or cab signal territory; equipped. Waiver is requested to the extent that the equipped requirements in the section shall not apply to CAS during the test phase.

Justification: A small subset of locomotives operating in the test territory will be CAS equipped; the majority of trains will not be equipped. CAS tests require flexibility in installing, removing, turning on and turning off the on-board equipment. In any case, all CAS tests will be conducted under the provisions of the rules governing the existing methods of operation.

Section 236.567

Restrictions imposed when device fails and/or is cut out enroute. Waiver is requested exempting CAS tests from the restrictions associated with device failure or cutout.

Justification: CAS tests require flexibility in installing, removing, turning on and turning off the on-board equipment. All CAS tests will be conducted under the provisions of the rules governing the existing methods of operation. A failure or deactivation of the CAS equipment will not jeopardize safety of train operations.

Section 236.586

Daily or after trip test. Waiver is requested exempting CAS from the requirements of this section during the test phase.

Justification: During the CAS test phase, the requirements for a daily or after trip test, if necessary, will be defined. An objective is to perform this test without human intervention.

Section 236.587

Departure test. Waiver is requested exempting CAS from the requirements of this section during the test phase.

Justification: During the CAS test phase, the requirements for a departure test will be defined. An objective is to perform this test without human intervention.

Section 236.588

Periodic test. Waiver is requested exempting CAS from the requirements of this section during the test phase.

Justification: During the CAS test phase, the requirements for a departure test will be defined.

Section 240.127

Criteria for examining skill performance. Waiver is requested exempting CAS from the testing requirements of this section during the test phase.

Justification: Criteria and procedures for CAS performance evaluation do not yet exist; they will be identified and defined during the CAS test phase.

Section 240.129

Criteria for monitoring operational performance of certified engineers. Waiver is requested exempting CAS from the performance monitoring procedures during the test phase.

Justification: Criteria and procedures for CAS performance evaluation do not yet exist; they will be identified and defined during the test phase.

It is acknowledged for clarification that CAS, when fully operative during the test phase, will comply with the following regulations:

Section 236.8

Operating characteristics of electromagnetic, electronic, or electrical apparatus. CAS computing equipment will comply with this regulation.

Section 236.501

Forestalling device and speed control. CAS is designed to enforce maximum authorized speeds, speed restrictions, slow speed, and absolute stop. CAS will comply with § 236.501 except for paragraph (b)(2).

Section 236.502

Automatic brake application, initiation by restrictive block conditions stopping distance in advance. CAS is designed to initiate an automatic brake application stopping distance in advance of the end of limits of authority; or the beginning of each speed restriction in the route.

Section 236.503

Automatic brake application; initiation when predetermined rate of speed exceeded. CAS will comply with this regulation.

Section 236.505

Proper operative relation between parts along roadway and parts on locomotive. CAS will function as intended under all conditions of speed, weather, oscillation, and shock. CAS will comply with this regulation.

Section 236.506

Release of brakes after automatic application. After a CAS initiated brake application, brakes cannot be released until the train is stopped.

Section 236.507

Brake application; full service. CAS will comply with this regulation.

Section 236.508

Interference with application of brakes by means of brake valve. CAS equipment will not interfere with or impair the efficiency of the automatic or independent brake valves.

Section 236.509

Two or more locomotives coupled. CAS will be made operative only on the controlling locomotive; however, CAS tests that do not affect train operations may occur on the trailing locomotives.

Section 236.513

Audible indicator. The audible indicator for CAS will have a distinctive sound and be clearly audible under all operating conditions.

Section 236.516

Power supply. CAS equipment will have its own isolated power supply.

Section 236.565

Provision made for preventing operation of pneumatic brake-applying apparatus by double-heading cock; requirement. Operation of the double-heading cock (cutoff pilot valve) will not cut out CAS before the automatic brake is cut out.

Section 236.590

Pneumatic apparatus. Pneumatic apparatus will be inspected and cleaned as required.

Part 236, Subpart G

Definitions. As applicable except § 236.703 and § 236.805.

Interested parties are invited to participate in these proceedings by submitting written views, data or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2003-15756) and must be submitted to the Docket Clerk, DOT Central Docket Management Facility, Room PL-401, Washington, DC 20590-0001. Communications received within 30 days of the date of this notice will be considered by FRA before final action is taken. Comments received after that date will be considered as far as practicable. All written communications concerning these proceedings are available for examination during regular business hours (9 a.m.-5 p.m.). At the above facility. All documents in the public docket are also available for inspection and copying on the Internet at the docket facility's Web site at http://dms.dot.gov.

Issued in Washington, DC, on October 14, 2003.
Grady C. Cothen, Jr.,
Deputy Associate Administrator for Safety Standards and Program Development.

[FR Doc. 03-26374 Filed 10-17-03; 8:45 am]

BILLING CODE 4910-06-P